DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of four individuals and one entity whose property and interests in property have been blocked pursuant to the Foreign Narcotics Kingpin Designation Act (Kingpin Act) (21 U.S.C. 1901-1908, 8 U.S.C. 1182).

DATES: The designation by the Director of OFAC of the four individuals and one entity identified in this notice pursuant to section 805(b) of the Kingpin Act is effective on July 29, 2014.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On July 29, 2014, the Director of OFAC designated the following four individuals and one entity whose property and interests in property are blocked pursuant to section 805(b) of the Kingpin Act.

Individuals

1. HU, Yongan; DOB 26 May 1976; POB China; citizen China; Passport E00957550 (China); National ID No. 410204197605261014 (China); Chinese Commercial Code 5170 3057 1344 (individual) [SDNTK] (Linked To: CEC LIMITED).

2. WANG, Guoying (a.k.a. WANG, Guo Ying); DOB 19 Mar 1950; citizen China; Passport G41966371 (China); Chinese Commercial Code 3769/0948/5931 (individual) [SDNTK] (Linked To: CEC LIMITED).

3. ZHANG, Lei (a.k.a. CHANG, Eric; a.k.a. LEI, Zhang; a.k.a. ZHANG, Shi); DOB 03 Jan 1976; POB Shanghai, China; citizen China; Passport G23851362 (China); alt. Passport W76048374 (China); National ID No. 320202197601030513 (China); Chinese Commercial Code 1728 4320 (individual) [SDNTK] (Linked To: CEC LIMITED).

4. ZHANG, Jicheng; DOB 12 Nov 1973; POB China; citizen China; Passport G60761595 (China); Chinese Commercial Code 1728 3444 2052 (individual) [SDNTK] (Linked To: CEC LIMITED).

Entity

5. CEC LIMITED (a.k.a. CEC CHEMICAL CO., LTD.; a.k.a. CEC LTD.; a.k.a. CEC PHARM CO LTD; a.k.a. CEC PHARMATECH LTD; a.k.a. CHINA ENRICHING CHEMISTRY; a.k.a. HANGZHOU HONGYAN TRADING CO., LTD; a.k.a. IAN LIMITED; a.k.a. SHANGHAI CANHE PHARMTECH CO LTD), Room 807, 8/F Building 6, No. 333 Guiping Road, Shanghai 200233, China; 401, No. 23, Changning Road 1277, Shanghai 200051, China; Web site www.cecchem.com; alt. Web site www.eric1234.com [SDNTK].

Dated: July 29, 2014.
Adam J. Szubin,
Director, Office of Foreign Assets Control.

[FR Doc. 2014-18554 Filed 8-5-14; 8:45 am]

BILLING CODE 4810-AL-P